NATIONAL ARCHIVES AND RECORDS ADMINISTRATION

36 CFR Part 1254

RIN 3095-AB01

Research Room Procedures

AGENCY: National Archives and Records Administration (NARA).

ACTION: Final rule.

SUMMARY: NARA is amending its regulations on use of NARA research rooms to add a policy on use of public access personal computers (workstations) in the research rooms. These NARA-provided workstations will provide researcher access to the Internet. We are also clarifying that, in research rooms where the plastic researcher identification card is also used with the facility's security system, we will issue a plastic card to researchers who have a paper card from another NARA facility. This rule will affect researchers who use NARA research facilities nationwide.

EFFECTIVE DATE: March 25, 2002.

FOR FURTHER INFORMATION CONTACT: Nancy Allard at telephone number 301-713-7360, ext. 226, or fax number 301-713-7270.

SUPPLEMENTARY INFORMATION: NARA published a notice of proposed rulemaking on September 7, 2001 at 66 FR 46752. The comment period ended on November 6, 2001. NARA received no public comments, and is issuing this final rule without change.

The public access computers described in § 1254.25 are being installed in research and/or consultation rooms in all NARA archival facilities, including regional archives and Presidential libraries, to provide Internet access for research purposes, such as access to NARA's Archival Information Locator (NAIL), and NAIL's successor, the Archival Research Catalog (ARC). Computers designated for public use provide Internet access only. At least one of the public Internet access workstations in each facility complies with the Workforce Investment Act of 1998, ensuring comparable accessibility to individuals with disabilities. Individual accessibility requirements are addressed on an as-needed basis. We encourage people who require assistive technology to notify the appropriate research room at least two weeks in advance.

This rule is not a significant regulatory action for the purposes of Executive Order 12866 and has not been reviewed by the Office of Management and Budget. As required by the Regulatory Flexibility Act, I certify that this rule will not have a significant impact on a substantial number of small entities because it applies only to individuals conducting research on NARA premises. This regulation does not have any federalism or tribal implications.

List of Subjects in 36 CFR Part 1254

Archives and records.

For the reasons set forth in the preamble, NARA amends part 1254 of title 36, Code of Federal Regulations, as follows:

PART 1254—AVAILABILITY OF RECORDS AND DONATED HISTORICAL MATERIALS

1. The authority citation for part 1254 continues to read as follows:

Authority: 44 U.S.C. 2101-2118; 5 U.S.C. 552; and E.O. 12600, 52 FR 23781, 3 CFR, 1987 Comp., p. 235.

2. Revise § 1254.6 to read as follows:

§ 1254.6 Researcher identification card.

(a) An identification card is issued to each person who is approved to use records other than microfilm. Cards are valid for one year, and may be renewed upon application. Cards are valid at each facility, except as described in paragraph (b) of this section. They are not transferable and must be presented if requested by a guard or research room attendant.

(b) At the National Archives in College Park and other NARA facilities that issue and use plastic researcher identification cards as part of their security systems, paper researcher identification cards issued at other NARA facilities are not valid. In facilities that use plastic researcher identification cards, NARA will issue a plastic card to replace the paper card at no charge.

3. Add § 1254.25 to read as follows:

§ 1254.25 Rules for public access use of the Internet on NARA-supplied personal computers.

(a) Public access personal computers (workstations) are available for Internet use in all NARA research rooms. The number of workstations varies per location. These workstations are intended for research purposes and are provided on a first-come-first-served basis. When others are waiting to use the workstation, a 30-minute time limit may be imposed on the use of the equipment.

(b) Researchers should not expect privacy while using these workstations. These workstations are operated and maintained on a United States Government system, and activity may be monitored to protect the system from unauthorized use. By using this system, researchers expressly consent to such monitoring and the reporting of unauthorized use to the proper authorities.

(c) At least one Internet access workstation will be provided in each facility that complies with the Workforce Investment Act of 1998, ensuring comparable accessibility to individuals with disabilities.

(d) Researchers may download information to a diskette and print materials, but the research room staff will furnish the diskettes and paper. Researchers may not use personally owned diskettes on NARA personal computers.

(e) Researchers may not load files or any type of software on these workstations.

Dated: February 15, 2002.
John W. Carlin,
Archivist of the United States.

[FR Doc. 02-4211 Filed 2-21-02; 8:45 am]

BILLING CODE 7515-01-P